DEPARTMENT OF TRANSPORTATION

Surface Transportation Board

Notice of Public Information Collection Submitted to the Office of the Management and Budget for Review

AGENCY: Surface Transportation Board, DOT.

ACTION: Requesting approval of revision of a currently approved collection.

SUMMARY: The Surface Transportation Board submitted to the Office of Management and Budget for review and approval the following proposal for collection of information as required by the Paperwork Reduction Act of 1995, Public Law 104-13 (44 U.S.C. Chapter 35).

Title: Annual Waybill Compliance Survey.

Office: Office of Economics, Environmental Analysis, and Administration.

OMB Form No.: OMB 2140-0010.

Frequency: Annually.

No. of Respondents: 600.

Total Burden Hours: 300.

DATES: Persons wishing to comment on this information collection should submit comments by August 18, 2000.

ADDRESSES: Direct all comments to Case Control, Surface Transportation Board, 1925 K Street, NW., Washington, DC 20423. When submitting comments refer to the title of the information collection.

FOR FURTHER INFORMATION CONTACT: Harold J. Warren, (202) 565-1433. Requests for copies of the information collection may be obtained by contacting Arlene Jeffcoat, (202) 565-1661.

SUPPLEMENTARY INFORMATION: The Surface Transportation Board is, by statute, responsible for the economic regulation of railroads operating in the United States. The Carload Waybill Sample is collected to support the Board's regulatory activities as is the information concerning railroad revenue. The Annual Waybill Compliance Survey, which collects on the number of carloads terminated and operating revenue, is required to be filed by all railroads operating in the United States pursuant to authority in title 49 U.S.C. 1145, 11144,11901,11326(b), 11327, and 11328(b) of the ICC Termination Act of 1995, Pub. L. 104-88, 109 Stat. 803 (1995). Our regulations at 49 CRF 1244.2(f) specifically require the survey to be filed annually.

Decided: July 13, 2000.
By the Board, Vernon A. Williams, Secretary.
Vernon A. Williams,
Secretary.

[FR Doc. 00-18231 Filed 7-18-00; 8:45 am]

BILLING CODE 4915-00-P